DEPARTMENT OF THE INTERIOR

Fish and Wildlife Service

[FWS-R4-ES-2015-N115; FXES11130400000EA-123-FF04EF1000]

Endangered and Threatened Wildlife and Plants; Availability of Proposed Low-Effect Habitat Conservation Plans, Lake, County, FL

AGENCY: Fish and Wildlife Service, Interior.

ACTION: Notice of availability; request for comment/information.

SUMMARY: We, the Fish and Wildlife Service (Service), have received five applications for incidental take permits (ITPs) and one renewal of an ITP under the Endangered Species Act of 1973, as amended (Act) in Lake County, Florida. We request public comment on the permit applications and accompanying proposed habitat conservation plans (HCPs), as well as on our preliminary determination that the plans qualify as low-effect under the National Environmental Policy Act (NEPA). To make this determination, we used our environmental action statements and low-effect screening forms, which are also available for review.

DATES: To ensure consideration, please send your written comments by August 8, 2016.

ADDRESSES: If you wish to review the applications and HCPs, you may request documents by email, U.S. mail, or phone (see below). These documents are also available for public inspection by appointment during normal business hours at the office below. Send your comments or requests by any one of the following methods.

Email: northflorida@fws.gov. Use “Attn: Permit number TE96908B-0” as your message subject line for Walton Acquistions FL, LLC; “Attn: Permit number TE96852B-0” for EPC Holdings 808 LLC and Parkview Oaks, LLC; “Attn: Permit number TE96862B-0” for Mattamy Orlando, LLC (Ladd Property); “Attn: Permit number TE96859B-0” for Mattamy Orlando, LLC (NOLA Property); “Attn: Permit number TE96904B-0” for Mattamy Orlando, LLC (Clermont Self Storage Property); and “Attn: Permit number TE105732-2” for Richard Bosserman.

Fax: Field Supervisor, (904) 731-3191, Attn: Permit number [Insert permit number].

U.S. mail: Field Supervisor, Jacksonville Ecological Services Field Office, Attn: Permit number [Insert permit number], U.S. Fish and Wildlife Service, 7915 Baymeadows Way, Suite 200, Jacksonville, FL 32256.

In-person drop-off: You may drop off information during regular business hours at the above office address.

FOR FURTHER INFORMATION CONTACT: Erin M. Gawera, telephone: (904) 731-3121; email: erin_gawera@fws.gov.

SUPPLEMENTARY INFORMATION: We, the Fish and Wildlife Service (Service), have received five applications for incidental take permits (ITPs) and one renewal of an ITP under the Endangered Species Act of 1973, as amended (Act). Walton Acquisitions FL, LLC requests a 20-year ITP; EPC Holdings 808 LLC and Parkview Oaks, LLC request a 25-year ITP; Mattamy Orlando, LLC (Ladd Property) requests a 5-year ITP; Mattamy Orlando, LLC (NOLA Property) requests a 5-year ITP; Mattamy Orlando, LLC (Clermont Self Storage Property) requests a 5-year ITP; and Richard Bosserman requests a 10-year renewal of ITP permit #TE105732-1. We request public comment on the permit applications and accompanying proposed habitat conservation plans (HCPs), as well as on our preliminary determination that the plans qualify as low-effect under the National Environmental Policy Act (NEPA). To make this determination, we used our environmental action statement and low-effect screening form, which are also available for review.

Background

Section 9 of the Act (16 U.S.C. 1531 et seq.) and our implementing Federal regulations in the Code of Federal Regulations (CFR) at 50 CFR part 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take—i.e., take that is incidental to, and not the purpose of, the carrying out of an otherwise lawful activity.

Regulations governing incidental take permits for threatened and endangered species are at 50 CFR 17.32 and 17.22, respectively. The Act's take prohibitions do not apply to federally listed plants on private lands unless such take would violate State law. In addition to meeting other criteria, an incidental take permit's proposed actions must not jeopardize the existence of federally listed fish, wildlife, or plants.

Applicants' Proposals

Walton Acquisitions FL, LLC

Walton Acquisitions FL, LLC is requesting take of approximately 6.03 acres (ac) of occupied sand skink foraging and sheltering habitat incidental to construction of a residential project, and they seek a 20-year permit. The 505.99-ac project is located on parcel number 21-20-24-000100000900 within Sections 21, 22, 27, and 28, Township 22 South, and Range 26 East, Lake County, Florida. The project includes construction of a residential development and the associated infrastructure, and landscaping. The applicant proposes to mitigate for the take of the sand skink by the purchase of 12.06 mitigation credits within the Collany Conservation Bank or another Service-approved sand skink bank.

EPC Holdings 808 LLC and Parkview Oaks, LLC

EPC Holdings 808 LLC and Parkview Oaks, LLC request take of approximately 1.58 ac of occupied sand skink foraging and sheltering habitat incidental to construction of a residential project, and they seek a 25-year permit. The 1433-ac project is located on parcels identified with by the Lake County Property Appraiser with the Alternate Key IDs of 1037051, 2804271, 1031028, 1065062, 3029038, 3029020, 3029011, 3859093, 1017301, 2868180, 3854637, 3884096, 1590361, 3860074, 1070015, 3860073, 1070015, and 3859995, 1590817, 3019890, 1027764, 2934590, 2934581, 2934603, and 1065101, within Sections 16, 17, 20, 21, 28, and 29, Township 21 South, and Range 26 East, Lake County, Florida. The project includes construction of a residential development and the associated infrastructure, and landscaping. The applicant proposes to mitigate for the take of the sand skink by the purchase of 3.16 mitigation credits within the Collany Conservation Bank or another Service-approved sand skink bank.

Mattamy Orlando, LLC (Ladd Property)

Mattamy Orlando, LLC is requesting take of approximately 10.65 ac of occupied sand skink foraging and sheltering habitat incidental to construction of a residential project, and they seek a 5-year permit. The 17.75-ac project is located on parcel numbers 342226000200000200, 342226130000C00001, and 342226000200000600 within Section 34, Township 22 South, and Range 26 East, Lake County, Florida. The project includes construction of a residential development and the associated infrastructure, and landscaping. The applicant proposes to mitigate for the take of the sand skink by the purchase of 21.3 mitigation credits within the Hatchineha Conservation Bank or another Service-approved sand skink bank.

Mattamy Orlando, LLC (NOLA Property)

Mattamy Orlando, LLC is requesting take of approximately 9.67 ac of occupied sand skink foraging and sheltering habitat incidental to construction of a residential project, and they seek a 5-year permit. The 541-ac project is located on parcel numbers 27-22-26-00-030-0000-500, 34-22-26-00-010-0000-100, and 35-22-26-00-010-0000-600 within Sections 27, 34, 35 and 36, Township 22 South, and Range 26 East, Lake County, Florida. The project includes construction of a residential development and the associated infrastructure, and landscaping. The applicant proposes to mitigate for the take of the sand skink by the purchase of 19.34 mitigation credits within the Hatchineha Conservation Bank or another Service-approved sand skink bank.

Mattamy Orlando, LLC (Self Storage Property)

Mattamy Orlando, LLC is requesting take of approximately 9.1 ac of occupied sand skink foraging and sheltering habitat incidental to construction of a mixed commercial and residential project, and they seek a 5-year permit. The 16.25-ac project is located on parcel numbers 342226130000A00000, 34226130000000100, 342226130000C00000, and 342226000200000200 within Section 34, Township 22 South, Range 26 East, Lake County, Florida. The project includes construction of a mixed commercial and residential development and the associated infrastructure, and landscaping. The applicant proposes to mitigate for the take of the sand skink by the purchase of 18.2 mitigation credits within the Hatchineha Conservation Bank or another Service-approved sand skink bank.

Richard Bosserman

Richard Bosserman has been approved for take of approximately 1.9 ac of sand skink-occupied habitat incidental to construction of a commercial facility, and seeks a 10-year extension on an existing permit. The 29.6-ac project is located within Section 27, Township 22 South, and Range 26 East, Clermont, Lake County, Florida. The applicant's HCP describes the mitigation and minimization measures the applicant completed to address the effects of the project to the sand skink.

Our Preliminary Determination

We have determined that the applicants' proposals, including the proposed mitigation and minimization measures, would have minor or negligible effects on the species covered in their HCPs. Therefore, we determined that the ITPs for each of the applicants are “low-effect” projects and qualify for categorical exclusion under the National Environmental Policy Act (NEPA), as provided by the Department of the Interior Manual (516 DM 2 Appendix 1 and 516 DM 6 Appendix 1). A low-effect HCP is one involving (1) Minor or negligible effects on federally listed or candidate species and their habitats, and (2) minor or negligible effects on other environmental values or resources.

Next Steps

We will evaluate the HCPs and comments we receive to determine whether the ITP applications meet the requirements of section 10(a) of the Act (16 U.S.C. 1531 et seq.). If we determine that the applications meet these requirements, we will issue ITP numbers TE96908B-0, TE96852B-0, TE96862B-0, TE96859B-0, TE96904B, and TE105732-2. We will also evaluate whether issuance of the section 10(a)(1)(B) ITPs complies with section 7 of the Act by conducting an intra-Service section 7 consultation. We will use the results of this consultation, in combination with the above findings, in our final analysis to determine whether or not to issue the ITPs. If the requirements are met, we will issue the permits to the applicants.

Public Comments

If you wish to comment on the permit applications, HCPs, and associated documents, you may submit comments by any one of the methods in ADDRESSES.

Public Availability of Comments

Before including your address, phone number, email address, or other personal identifying information in your comments, you should be aware that your entire comment—including your personal identifying information—may be made publicly available at any time. While you can ask us in your comment to withhold your personal identifying information from public review, we cannot guarantee that we will be able to do so.

Authority

We provide this notice under Section 10 of the Act and NEPA regulations (40 CFR 1506.6).

Dated: June 29, 2016.
Jay B. Herrington,
Field Supervisor, Jacksonville Field Office, Southeast Region.

[FR Doc. 2016-16079 Filed 7-6-16; 8:45 am]

BILLING CODE 4310-55-P